DEPARTMENT OF HOMELAND SECURITY

Coast Guard

[USCG-2004-18977]

Collection of Information Under Review by Office of Management and Budget (OMB): OMB Control Numbers: 1625-0024, 1625-0044, and 1625-0045

AGENCY: Coast Guard, DHS.

ACTION: Request for comments.

SUMMARY: In compliance with the Paperwork Reduction Act of 1995, the Coast Guard intends to seek the approval of OMB for the renewal of three Information Collection Requests (ICRs). The ICRs comprise (1) 1625-0024, Safety Approval of Cargo Containers; (2) 1625-0044, Outer Continental Shelf Activities—Title 33 CFR Subchapter N; and (3) 1625-0045, Adequacy Certification for Reception Facilities and Advance Notice—33 CFR Part 158. Before submitting the ICRs to OMB, the Coast Guard is inviting comments on them as described below.

DATES: Comments must reach the Coast Guard on or before November 8, 2004.

ADDRESSES: To make sure that your comments and related material do not enter the docket [USCG-2004-18977] more than once, please submit them by only one of the following means:

(1) By mail to the Docket Management Facility, U.S. Department of Transportation (DOT), room PL-401, 400 Seventh Street, SW., Washington, DC 20590-0001.

(2) By delivery to room PL-401 on the Plaza level of the Nassif Building, 400 Seventh Street, SW., Washington, DC, between 9 a.m. and 5 p.m., Monday through Friday, except Federal holidays. The telephone number is 202-366-9329.

(3) By fax to the Docket Management Facility at 202-493-2251.

(4) Electronically through the Web site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street, SW., Washington, DC, between 9 a.m. and 5 p.m., Monday through Friday, except Federal holidays. You may also find this docket on the Internet at http://dms.dot.gov.

Copies of the complete ICRs are available through this docket on the Internet at http://dms.dot.gov, and also from Commandant (CG-611), U.S. Coast Guard Headquarters, room 6106 (Attn: Mr. Arthur Requina), 2100 Second Street, SW., Washington, DC 20593-0001. The telephone number is 202-267-2326.

FOR FURTHER INFORMATION CONTACT: Mr. Arthur Requina, Office of Information Management, 202-267-2326, for questions on these documents; or Ms. Andrea M. Jenkins, Program Manager, Docket Operations, 202-366-0271, for questions on the docket.

SUPPLEMENTARY INFORMATION:

Public Participation and Request for Comments

We encourage you to participate in this request for comment by submitting comments and related materials. We will post all comments received, without change, to http://dms.dot.gov, and they will include any personal information you have provided. We have an agreement with DOT to use the Docket Management Facility. Please see the paragraph on DOT's “Privacy Act Policy” below.

Submitting comments: If you submit a comment, please include your name and address, identify the docket number for this request for comment [USCG-2004-18977], indicate the specific section of this document to which each comment applies, and give the reason for each comment. You may submit your comments and material by electronic means, mail, fax, or delivery to the Docket Management Facility at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Information Collection Requests

1. Title: Safety Approval of Cargo Containers.

OMB Control Number: 1625-0024.

Summary: This information collection requires owners and manufacturers of cargo containers to submit information and keep records associated with the approval and inspection of those containers. This information is needed to ensure compliance with the International Convention for Safe Containers (CSC)

Need: This collection of information addresses the reporting and recordkeeping requirements for containers in 49 CFR parts 450-453. These rules are necessary because the U.S. is signatory to the CSC. The CSC requires that all containers be safety approved before they are used in trade. These rules prescribe only the minimum requirements of the CSC.

Respondents: Owners and manufacturers of containers, and organizations that the Coast Guard delegates to act as an approval authority.

Frequency: On occasion.

Burden Estimate: The estimated burden is 73,272 hours a year.

2. Title: Outer Continental Shelf Activities—Title 33 CFR Subchapter N

OMB Control Number: 1625-0044.

Summary: The Outer Continental Shelf (OCS) Lands Act, as amended, authorizes the Coast Guard to promulgate and enforce regulations promoting the safety of life and property on OCS facilities. These regulations are in 33 CFR, Chapter I, Subchapter N.

Need: The information is needed to ensure compliance with the safety regulations related to OCS activities. The regulations include reporting and recordkeeping requirements for annual inspections of fixed OCS facilities, employee citizenship records, station bills, emergency evacuation plans, and equivalency determinations.

Respondents: Operators of facilities and vessels engaged in activities on the OCS.

Frequency: On occasion.

Burden Estimate: The estimated burden is 5,867 hours a year.

3. Title: Adequacy Certification for Reception Facilities and Advance Notice—33 CFR Part 158.

OMB Control Number: 1625-0045.

Summary: This information collection is needed to evaluate the adequacy of reception facilities prior to issuance of a Certificate of Adequacy. Information for the advance notice ensures effective management of reception facilities and reduces the burden to facilities and ships.

Need: Section 1905 of 33 U.S.C. gives the Coast Guard the authority to certify the adequacy of reception facilities in ports. Reception facilities are needed to receive waste from ships which may not discharge at sea. Under these regulations, in 33 CFR part 151 and 158, there are discharge limitations for oil and oily waste, noxious liquid substances, plastics and other garbage.

Respondents: Owners and operators of reception facilities, and owners and operators of vessels.

Frequency: On occasion.

Burden Estimate: The estimated burden is 1,058 hours a year.

Dated: August 30, 2004.
Clifford I. Pearson,
Assistant Commandant for C4 and Information Technology.

[FR Doc. 04-20329 Filed 9-7-04; 8:45 am]

BILLING CODE 4910-15-P